DEPARTMENT OF TRANSPORTATION

Federal Aviation Administration

14 CFR Part 71

[Docket No. FAA-2020-1103; Airspace Docket No. 20-ACE-21]

RIN 2120-AA66

Amendment of V-72, V-132, V-190, and V-289, and Revocation of V-238 in the Vicinity of Maples, MO

AGENCY: Federal Aviation Administration (FAA), DOT.

ACTION: Final rule.

SUMMARY: This action amends VHF Omnidirectional Range (VOR) Federal airways V-72, V-132, V-190, and V-289; and removes VOR Federal airway V-238 in the vicinity of Maples, MO. The VOR Federal airway modifications are necessary due to the planned decommissioning of the VOR portion of the Maples, MO, VOR/Tactical Air Navigation (VORTAC) navigation aid (NAVAID) which provides navigation guidance for portions of the affected airways listed above. The Maples VOR is being decommissioned as part of the FAA's VOR Minimum Operational Network (MON) program.

DATES: Effective date 0901 UTC, August 12, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2020-1103 in the Federal Register (85 FR 79446; December 10, 2020), amending VOR Federal airways V-72, V-132, V-190, and V-289; and removing VOR Federal airway V-238 in the vicinity of Maples, MO. The proposed amendment and revocation actions were due to the planned decommissioning of the VOR portion of the Maples, MO, VORTAC NAVAID. Interested parties were invited to participate in this rulemaking effort by submitting written comments on the proposal. No comments were received.

Subsequent to the NPRM, the FAA published a rule for Docket No. FAA-2020-0944 in the Federal Register (86 FR 16296; March 29, 2021), amending VOR Federal airway V-190 by removing the airway segment overlying the Marion, IL, VOR/DME between the Farmington, MO, VORTAC and the Pocket City, IN, VORTAC. That airway amendment, effective June 17, 2021, is included in this rule.

VOR Federal airways are published in paragraph 6010(a) of FAA Order 7400.11E, dated July 21, 2020, and effective September 15, 2020, which is incorporated by reference in 14 CFR 71.1. The VOR Federal airways listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending 14 CFR part 71 by modifying VOR Federal airways V-72, V-132, V-190, and V-289, and removing V-238. The planned decommissioning of the VOR portion of the Maples, MO, VORTAC has made this action necessary.

The VOR Federal airway changes are outlined below.

V-72: V-72 extends between the Razorback, AR, VORTAC and the Bible Grove, IL, VORTAC. The airway segment overlying the Maples, MO, VORTAC between the Dogwood, MO, VORTAC and the Farmington, MO, VORTAC is removed. The unaffected portions of the existing airway remain as charted.

V-132: V-132 extends between the Medicine Bow, WY, VOR/DME and the intersection of the Forney, MO, VOR 086° and Maples, MO, VORTAC 052° radials (LENOX fix). The airway excludes that portion within restricted areas R-4501A, R-4501B, R-4501C and R-4501D during their time of activation. The LENOX fix is redefined as the intersection of the existing Forney, MO, VOR 086° radial and new Vichy, MO, VOR/DME 156° radial. The existing airway remains as charted and the exclusion language remains unchanged.

V-190: V-190 extends between the Phoenix, AZ, VORTAC and the Farmington, MO, VORTAC. The airway segment overlying the Maples, MO, VORTAC between the Springfield, MO, VORTAC and the Farmington, MO, VORTAC is removed. The unaffected portions of the existing airway remain as charted.

V-238: V-238 extends between the Maples, MO, VORTAC and the Troy, IL, VORTAC. The airway is removed in its entirety.

V-289: V-289 extends between the Beaumont, TX, VORTAC and the Vichy, MO, VOR/DME. The airway point defined by the intersection of the Dogwood, MO, VORTAC 058° and Maples, MO, VORTAC 236° radials (MUPIE fix) is removed and the airway point defined by the intersection of the Maples, MO, VORTAC 236° and Vichy, MO, VOR/DME 204° radials (GOBEY fix) is redefined as the intersection of the new Dogwood, MO, VORTAC 058° radial and existing Vichy, MO, VOR/DME 204° radial. The existing airway remains as charted.

All radials in the VOR Federal airway descriptions below are stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying VOR Federal airways V-72, V-132, V-190, and V-289, and removing V-238, due to the planned decommissioning of the VOR portion of the Maples, MO, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-72 [Amended]

From Razorback, AR; to Dogwood, MO. From Farmington, MO; Centralia, IL; to Bible Grove, IL.

* * * * *

V-132 [Amended]

From Medicine Bow, WY; INT Medicine Bow 106° and Cheyenne, WY, 330° radials; Cheyenne; Akron, CO; 17 miles, 49 miles, 59 MSL, Goodland, KS; 50 miles, 97 miles, 65 MSL, Hutchinson, KS; INT Hutchinson 078° and Chanute, KS, 293° radials; Chanute; INT Chanute 100° and Springfield, MO, 276° radials; Springfield; INT Springfield 058° and Forney, MO, 266° radials; Forney; to INT Forney 086° and Vichy, MO, 156° radials, excluding that portion within R-4501A, R-4501B, R-4501C, and R-4501D during their time of activation.

* * * * *

V-190 [Amended]

From Phoenix, AZ; St. Johns, AZ; Albuquerque, NM; Fort Union, NM; Dalhart, TX; Mitbee, OK; INT Mitbee 059° and Pioneer, OK, 280° radials; Pioneer; INT Pioneer 094° and Bartlesville, OK, 256° radials; Bartlesville; INT Bartlesville 075° and Oswego, KS, 233° radials; Oswego; INT Oswego 085° and Springfield, MO, 261° radials; to Springfield.

* * * * *

V-238 [Removed]

* * * * *

V-289 [Amended]

From Beaumont, TX; INT Beaumont 323° and Lufkin, TX, 161° radials; Lufkin; Gregg County, TX; Texarkana, AR; Fort Smith, AR; Harrison, AR; Dogwood, MO; INT Dogwood 058° and Vichy, MO, 204° radials; to Vichy.

* * * * *

Issued in Washington, DC, on May 17, 2021.
George Gonzalez,
Acting Manager, Rules and Regulations Group.

[FR Doc. 2021-10616 Filed 5-20-21; 8:45 am]

BILLING CODE 4910-13-P